DEPARTMENT OF AGRICULTURE

Submission for OMB Review; Comment Request

March 25, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 29, 2020will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: 7 CFR part 245, Determining Eligibility for Free and Reduced Price Meals and Free Milk in Schools.

OMB Control Number: 0584-0026.

Summary of Collection: The Richard B. Russell National School Lunch Act (NSLA), Child Nutrition Act of 1966 (42 U.S.C. 1779), and Title 7 CFR part 245, Determining Eligibility for Free and Reduced Price Meals and Free Milk in Schools, set forth Program requirements for State agencies, local education agencies (LEAs)/school food authorities (SFAs), and households. 7 CFR part 245 and section 9 of the NSLA require Program participants and administrators of the School Breakfast Program (SBP), National School Lunch Program (NSLP), or Special Milk Program (SMP) to determine children's eligibility for free and reduced price meals and/or free milk. Also established in 7 CFR part 245 and section 9 of the NSLA are Program procedures and Federal requirements that prevent physical segregation, or other discrimination against, or overt identification of, children unable to pay the full price for meals or milk. All schools and institutions opting to participate in the SBP, NSLP, or the SMP are required to make free or reduced price meals or free milk available to all eligible enrolled children.

Need and Use of the Information: FNS collects information for this mandatory collection from State agencies, LEAs/SFAs, and households. The information collected from the State agencies and the LEAs/SFAs ensures that eligibility determinations are made, that applications are verified, that eligibility and other records are maintained, and that public notification is provided concerning the programs. The information collected from the households is used to determine eligibility for free and reduced price meal benefits and participation in the Special Milk Program and to verify eligibility determinations. FNS uses the information to estimate and report the burden that Program requirements have on State and local levels, comply with Federal requirements, understand the administrative and operational costs associated with Program eligibility criteria, to monitor the number of children directly certified and the number participating in the school meal programs, to monitor the number of household applications that are submitted, and to monitor the number of schools operating under Provision 1, 2, or 3 or the Community Eligibility Provision which enable schools to serve all enrolled students free meals at no charge.

Description of Respondents: Individuals or households; State, Local, or Tribal Government.

Number of Respondents: 3,571,311.

Frequency of Responses: Recordkeeping; Reporting; Third Party Disclosure: Annually.

Total Burden Hours: 664,725.

Ruth Brown,
Departmental Information Collection Clearance Officer.

[FR Doc. 2020-06546 Filed 3-27-20; 8:45 am]

BILLING CODE 3410-30-P